DEPARTMENT OF VETERANS AFFAIRS

Solicitation of Nomination for Appointment to the Veterans' Rural Health Advisory Committee

ACTION: Notice.

SUMMARY: The Department of Veterans Affairs (VA), Veterans Health Administration (VHA), is seeking nominations of qualified candidates to be considered for appointment as members of the Veterans' Rural Health Advisory Committee (VRHAC) (hereinafter referred to as “the VRHAC”).

DATES: Nominations for membership on the Committee must be received by February 19, 2021, no later than 4:00 p.m., eastern standard time. Packages received after this time will not be considered for the current membership cycle.

ADDRESSES: All nomination packages should be emailed to Ms. Judy Bowie, Committee Manager at judy.bowie@va.gov and cc: Dr. Thomas Klobucar, Designated Federal Officer at Thomas.Klobucar@va.gov.

SUPPLEMENTARY INFORMATION: In carrying out the duties set forth, the Committee responsibilities include, but are not limited to,

• Providing a letter to the Secretary and Congress outlining recommendations to improve and enhance VA's delivery of services to rural Veterans.

• Meeting with VA officials, Veteran Service Organizations, and other stakeholders to assess the Department's efforts in providing access to healthcare, outreach and education services offered to rural Veterans.

• Making annual site visits and holding town hall meetings with Veterans to address their concerns.

Management and support services for the Committee are provided by the Office of Rural Health (ORH).

Authority: The Committee was established pursuant to 38 U.S.C. 3121, to advise the Secretary through the Under Secretary for Health on ways to improve and enhance access to VA healthcare services for enrolled Veterans residing in rural areas by reviewing current program activities and identifying barriers to accessing care and services.

Membership Criteria: The VRHAC is requesting nominations for upcoming vacancies on the Committee. The committee is composed of 12 members, in addition to ex-officio members. As required by statute, the members of the Committee are appointed by the Secretary from the general public, including, but not limited to:

• Representatives of Veterans Service Organizations.

• Persons who have distinguished themselves in the public, academic affiliation, community healthcare organizations, and private sector.

To the extent possible, the Secretary seeks members who have diverse professional and personal qualifications. We ask that nominations include information of this type so that VA can ensure a balanced Committee membership. Individuals appointed to the Committee by the Secretary shall be invited to serve a three-year term. The Secretary may reappoint a member for an additional term of service. In accordance with Federal Travel Regulation, Committee members will receive travel expenses and a per diem allowance for any travel made in association with duties as members of the Committee and within federal travel guidelines. Self-nominations are acceptable. Any letters of nomination from organizations or other individuals should accompany the package when it is submitted. Non-Veterans are also eligible for nomination.

Requirements for Nomination submission: Nominations should be typed (one nomination per nominator). Nomination package should include: https://www.ruralhealth.va.gov/docs/VRHAC-Application-Form_7-31-18.pdf.

(1) A letter of nomination that clearly states the name and affiliation of the nominee, the basis for the nomination (i.e., specific attributes which qualify the nominee for service in this capacity), and a statement from the nominee indicating that he/she is a U.S. citizen and is willingness to serve as a member of the Committee;

(2) the nominee's contact information, including name, mailing address, telephone numbers, and email address;

(3) the nominee's curriculum vitae;

(4) letters of recommendation are accepted; and

(5) a statement confirming that he/she is not a federally-registered lobbyist.

The Department makes every effort to ensure that the membership of VA Federal advisory committees is balanced in terms of points of view represented and the committee's function. Appointments to this Committee shall be made without discrimination based on a person's race, color, religion, sex, sexual orientation, gender identity, national origin, age, disability, or genetic information. Nominations must state that the nominee appears to have no conflict of interest that would preclude membership. An ethics review is conducted for each selected nominee.

Dated: January 22, 2021.
LaTonya L. Small,
Federal Advisory Committee Management Officer.

[FR Doc. 2021-01822 Filed 1-27-21; 8:45 am]

BILLING CODE P